DEPARTMENT OF HEALTH AND HUMAN SERVICES

Centers for Disease Control and Prevention

[30Day-12-0856]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

National Quitline Data Warehouse (OMB No. 0920-0856, exp. 7/31/2012)—Revision—National Center for Chronic Disease Prevention and Health Promotion (NCCDPHP), Centers for Disease Control and Prevention (CDC).

Background and Brief Description

Tobacco use remains the leading preventable cause of disease and death in the United States, resulting in approximately 440,000 deaths annually and contributing to $92 billion annually in lost worker productivity. Although the prevalence of current smoking among adults decreased significantly since its peak in the 1960s, overall smoking prevalence among U.S. adults has remained virtually unchanged during the past five years. Large disparities in smoking prevalence continue to exist among members of racial/ethnic minority groups and individuals of low socioeconomic status.

The National Tobacco Control Program (NTCP) was established by CDC to help reduce tobacco-related disease, disability, and death. The NTCP provides funding for state quitlines, which provide telephone-based tobacco cessation services to help tobacco users quit. Quitlines overcome many of the barriers to tobacco cessation classes and traditional clinics because they are free and available at the caller's convenience. Quitline services in all states can be accessed through a toll-free national portal number at 1-800-QUIT-NOW. According to CDC's Best Practices for Comprehensive Tobacco Control, approximately six to eight percent of tobacco users potentially can be reached successfully by quitlines; however, currently, only one to two percent of tobacco users contact Quitlines.

With funding authorized by the American Recovery and Reinvestment Act of 2009 (ARRA), CDC provided additional support for the expansion of tobacco quitline services and established a National Quitline Data Warehouse (NDQW) to collect information from the 50 states, the District of Columbia, Puerto Rico, and Guam. The principal information collection is based on a uniform Minimum Data Set (MDS) developed collaboratively by the North American Quitline Consortium and other tobacco control organizations.

Currently, the National Quitline Data Warehouse is an ongoing data collection that continues to standardize services, individual-level intake, and follow-up data collected by CDC-funded quitlines for the purposes of program monitoring, evaluation, and improvement. CDC is requesting OMB approval to continue the National Quitline Data Warehouse to evaluate the impact of Affordable Care Act, Prevention and Public Health Funds, and other CDC funding streams, such as the National Tobacco Control Program.

Quitline service providers use a common interview instrument to collect intake information from all callers. A one-minute interview will be conducted with callers who contact the quitline to obtain information on another person's behalf. Callers who contact the quitline to obtain information or services for themselves will be asked to participate in a 10-minute interview. A random sample of callers who receive a quitline service are asked to participate in a short, voluntary follow-up interview seven months after intake. Individual-level data (intake and 7-month follow-up) are submitted to CDC electronically through a secure FTP server (60%) and via U.S. mail (40%).

In addition, CDC collects a web-based quarterly report about each quitline program from the designated Tobacco Control Manager. These reports are used to quantify changes in service provision and improvements in the capacity of the quitlines to assist tobacco users over time. The majority of these data (90%) are submitted through the web-based survey, while the remaining 10% are submitted through other electronic means (i.e. email, PDF, fax). Based on NQDW data collected during the first two-year OMB clearance period, the estimated burden per response for the NQDW Quitline Services Online Survey is being increased from 7 minutes to 20 minutes.

The information collected in the NQDW will be used to determine the role quitlines play in promoting tobacco use cessation, measure the number of tobacco users being served by state quitlines, determine reach of quitlines to high-risk populations (e.g., racial and ethnic minorities and the medically underserved), measure the number using each state quitline who quit, determine whether some combinations of services contribute to higher quit rates than others, and improve the timeliness, access to, and quality of data collected by quitlines. CDC received public comments about uses of NQDW data, and other issues, in response to publication of the 60-day Federal Register Notice. In response to those comments, the revision request includes additional information about uses of information collected through the NQDW and describes CDC's plans to establish an evaluation working group to further enhance uses of NQDW data.

Information will be collected electronically and through the U.S. mail for a three-year period. There are no costs to respondents other than their time. The total estimated annualized burden hours are 88,982.

Estimated Annualized Burden Hours
Type of respondent | Form name | Number of respondents | Number of responses per respondent | Average burden per response (in hours)
Caller who contacts the Quitline on behalf of someone else | NQDW Intake Questionnaire | 24,688 | 1 | 1/60
Caller who contacts the Quitline for personal use |  | 510,768 | 1 | 10/60
Quitline caller who received a Quitline service | NQDW 7-Month Follow-up Questionnaire | 28,900 | 1 | 7/60
Tobacco Control Manager | NQDW Quitline Services Online Survey | 53 | 4 | 20/60

Kimberly S. Lane,
Deputy Director, Office of Scientific Integrity, Office of the Associate Director for Science, Office of the Director, Centers for Disease Control and Prevention.

[FR Doc. 2012-16648 Filed 7-6-12; 8:45 am]

BILLING CODE 4163-18-P